DEPARTMENT OF ENERGY

Federal Energy Regulatory Commission

[Project No. 14977-000]

Notice of Preliminary Permit Application Accepted for Filing and Soliciting Comments, Motions To Intervene, and Competing Applications: kW River Hydroelectric

On March 4, 2019, kW River Hydroelectric filed an application for a preliminary permit, pursuant to section 4(f) of the Federal Power Act (FPA), proposing to study the feasibility of the Hamilton Low Dam Hydroelectric Project to be located on the Great Miami River and near the City of Fairfield, in Butler County, Ohio. The sole purpose of a preliminary permit, if issued, is to grant the permit holder priority to file a license application during the permit term. A preliminary permit does not authorize the permit holder to perform any land-disturbing activities or otherwise enter upon lands or waters owned by others without the owners' express permission.

The proposed project would consist of the following: (1) Eleven 37-foot-long by 15-foot-wide turbine modules, each containing four 125-kilowatt (kW) turbines for a total project capacity of 5,500 kW; (2) two three-phase alternating current (A/C) generators, having a combined maximum power output capacity of 7,500 kW; (3) a 240-foot-long, 69-kV transmission line connecting to an existing transmission system (preferred option) or a 110-foot-long, 13.2-kV line connecting to an existing distribution system (secondary option); and (4) appurtenant facilities. The estimated annual generation of the Hamilton Low Dam Hydroelectric Project would be 3,066 megawatt-hours.

Applicant Contact: Mr. Paul Kling, kW River Hydroelectric, 5667 Krystal Court, Suite 100, Cincinnati, OH 45252; phone: (513) 673-2251.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14977-000.

More information about this project, including a copy of the application, can be viewed or printed on the eLibrary link of Commission's website at http://www.ferc.gov/docs-filing/elibrary.asp. Enter the docket number (P-14977) in the docket number field to access the document. For assistance, contact FERC Online Support.

Dated: April 26, 2019.
Nathaniel J. Davis, Sr.,
Deputy Secretary.

[FR Doc. 2019-08908 Filed 5-1-19; 8:45 am]

BILLING CODE 6717-01-P